DEPARTMENT OF JUSTICE

Executive Office for Immigration Review

8 CFR Parts 1001, 1003, 1292

[Docket No. EOIR 160F; A.G. Order No. 3028-2008]

RIN 1125 AA59

Professional Conduct for Practitioners—Rules and Procedures, and Representation and Appearances

AGENCY: Executive Office for Immigration Review, Justice.

ACTION: Correction to final rule.

SUMMARY: This document contains a correction to the final rule published Thursday, December 18, 2008 at 73 FR 76914, relating to the rules and procedures that govern the standards of representation and professional conduct for practitioners who appear before the Executive Office for Immigration Review (EOIR).

DATES: Effective Date: January 5, 2009.

FOR FURTHER INFORMATION CONTACT: John N. Blum, Acting General Counsel, Executive Office for Immigration Review, Suite 2600, 5107 Leesburg Pike, Falls Church, Virginia 22041, telephone number (703) 305-0470 (not a toll free call).

SUPPLEMENTARY INFORMATION: The final rule that is the subject of these corrections amends Department of Justice regulations by amending the rules and procedures for imposing disciplinary sanctions against practitioners who engage in criminal, unethical, or unprofessional conduct, or in frivolous behavior in proceedings before EOIR. The final rule increases the number of grounds for discipline and improves the clarity and uniformity of the existing rules while incorporating miscellaneous technical and procedural changes.

Need for Correction

As published, the final rule contains a typographical error that may cause confusion and therefore is in need of clarification. The instruction for 8 CFR 1003.103 says in part that the first sentence of paragraph (a)(1) is revised. However the entire paragraph is revised. The first sentence is revised to reflect the technical correction in terminology from “the Office of the General Counsel of EOIR” to “the EOIR disciplinary counsel,” and to allow for immediate suspension of a practitioner who resigns from the highest court of any State, possession, territory, or Commonwealth of the United States, or the District of Columbia, or any Federal court, while a disciplinary investigation is pending. The paragraph is further revised to incorporate the technical correction in terminology from “the Office of the General Counsel of the Service” to “DHS.”

Correction

For the reasons stated above, in the FR Doc. E8-30027, beginning on page 76914 in the Federal Register of Thursday, December 18, 2008, the following correction is made:

§ 1003.103 [Corrected]

On page 76923, in the third column, instruction 7a. is corrected to read as follows:

7. Amend § 1003.103 by:

a. Revising paragraph (a)(1);

* * * * *

Dated: December 30, 2008.
Rosemary Hart,
Federal Register Liaison.

[FR Doc. E8-31302 Filed 1-2-09; 8:45 am]

BILLING CODE 4410-30-P